DEPARTMENT OF THE INTERIOR

Fish and Wildlife Service

50 CFR Part 17

[Docket No. FWS-R4-ES-2013-0084; 4500030113]

RIN 1018-AZ08

Endangered and Threatened Wildlife and Plants; Endangered Status for the Florida Leafwing and Bartram's Scrub-Hairstreak Butterflies; Correction

AGENCY: Fish and Wildlife Service, Interior.

ACTION: Final rule; correction.

SUMMARY: We, the U.S. Fish and Wildlife Service, published a final rule in the Federal Register on August 12, 2014, that determined endangered species status under the Endangered Species Act of 1973, as amended (Act), for the Florida leafwing (Anaea troglodyta floridalis) and Bartram's scrub-hairstreak (Strymon acis bartrami), two butterflies endemic to South Florida. In that rule, we made an error in our amendatory language. With this document, we correct our error.

DATES: Effective September 11, 2014.

FOR FURTHER INFORMATION CONTACT: Anissa Craghead, (703) 358-2445.

SUPPLEMENTARY INFORMATION: We published a final rule in the Federal Register on August 12, 2014 (79 FR 47222), that determined endangered species status under the Act (16 U.S.C. 1531 et seq.) for two butterflies: the Florida leafwing (Anaea troglodyta floridalis) and Bartram's scrub-hairstreak (Strymon acis bartrami). In the amendatory language of that rule, for the two butteflies' entries, we inadvertently added a “Family” column to the List of Endangered and Threatened Wildlife (List) at title 50, section 17.11(h), of the Code of Federal Regulations. The List does not have a “Family” column. In order to have the two butterflies' entries set forth accurately in the List, we are publishing this correction, which newly and correctly sets forth the Regulation Promulgation section of the final we published at 79 FR 47222 (August 12, 2014).

List of Subjects in 50 CFR Part 17

Endangered and threatened species, Exports, Imports, Reporting and recordkeeping requirements, Transportation.

Regulation Promulgation

Accordingly, we amend part 17, subchapter B of chapter I, title 50 of the Code of Federal Regulations, as follows:

PART 17—[AMENDED]

1. The authority citation for part 17 continues to read as follows:

Authority: 16 U.S.C. 1361-1407; 16 U.S.C. 1531-1544; 16 U.S.C. 4201-4245, unless otherwise noted.

2. Amend § 17.11(h) by adding entries for “Butterfly, Bartram's scrub-hairstreak” and “Butterfly, Florida leafwing” to the List of Endangered and Threatened Wildlife in alphabetical order under INSECTS to read as set forth below:

§ 17.11 Endangered and threatened wildlife.

* * * * *

(h) * * *

Species: Common name | Species: Scientific name | Historical range | Vertebrate population where endangered or threatened | Status | When listed | Critical habitat | Special rules
* * * * * * *
Insects
* * * * * * *
Butterfly, Bartram's scrub-hairstreak | Strymon acis bartrami | U.S.A. (FL) | NA | E | 843 | 17.95(i) | NA
* * * * * * *
Butterfly, Florida leafwing | Anaea troglodyta floridalis | U.S.A. (FL) | NA | E | 843 | 17.95(i) | NA
* * * * * * *

* * * * *

Dated: August 12, 2014.
Anissa Craghead,
Alternate Federal Register Liaison, U.S. Fish and Wildlife Service.

[FR Doc. 2014-19590 Filed 8-18-14; 8:45 am]

BILLING CODE 4310-55-P